NUCLEAR REGULATORY COMMISSION

Sunshine Act Notice

DATES: Weeks of November 10, 17, 24, December 1, 8, 15, 2003.

PLACE: Commissioners' Conference Room, 11555 Rockville Pike, Rockville, Maryland.

STATUS: Public and closed.

MATTERS TO BE CONSIDERED:

Week of November 10, 2003

Wednesday, November 12, 2003

2 p.m.

Discussion of Intergovernmental Issues (Closed—Ex. 9)

Thursday, November 13, 2003

10:15 a.m.

Affirmation Session (Public Meeting)

Week of November 17, 2003—Tentative

Thursday, November 20, 2003

12:45 p.m.

Briefing on Threat Environment Assessment (Closed—Ex. 1)

Week of November 24, 2003—Tentative

There are no meetings scheduled for the Week of November 24, 2003.

Week of December 1, 2003—Tentative

There are no meetings scheduled for the Week of December 1, 2003.

Week of December 8, 2003

Tuesday, December 9, 2003

1:30 p.m.

Briefing on Equal Employment Opportunity Program (Public Meeting) (Contact: Corenthis Kelley, 301-415-7370)

Wednesday, December 10, 2003

9:30 a.m.

Briefing on Strategic Workforce Planning and Human Capital Initiatives (Closed—Ex. 2)

Week of December 15, 2003—Tentative

There are no meetings scheduled for the Week of December 15, 2003.

The schedule for Commission meetings is subject to change on short notice. To verify the status of meetings call (recording)—(301) 415-1292. Contact person for more information: David Louis Gamberoni (301) 415-1651.

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: November 6, 2003.
D.L. Gamberoni,
Technical Coordinator, Office of the Secretary.

[FR Doc. 03-28410 Filed 11-7-03; 11:10 am]

BILLING CODE 7590-01-M